DEPARTMENT OF COMMERCE

Foreign-Trade Zones Board

[Docket 45-99]

Withdrawal of Application for Subzone Status for J. Baker, Inc.; (Distribution of Apparel, Footwear and Accessories) Foreign-Trade Zone 27—Boston, MA (Canton, MA)

Notice is hereby given of the withdrawal of the application submitted by the Massachusetts Port Authority, grantee of FTZ 27, Boston, MA, requesting special-purpose subzone status for the apparel, footwear and accessories warehousing/distribution facilities of J. Baker, Inc., located in Canton, MA. The application was filed on September 13, 1999 (64 FR 49440, 9/13/99).

The withdrawal was requested because of changed circumstances, and the case has been closed without prejudice.

Dated: July 31, 2001.
Dennis Puccinelli,
Executive Secretary.

[FR Doc. 01-19912 Filed 8-7-01; 8:45 am]

BILLING CODE 3510-DS-P